DEPARTMENT OF ENERGY

Federal Energy Regulatory Commission

[Docket No. CP09-64-000]

El Paso Natural Gas Company; Notice of Request Under Blanket Authorization

February 20, 2009.

Take notice that on February 11, 2009, El Paso Natural Gas Company (EPNG), Post Office Box 1087, Colorado Springs, Colorado 80944, filed in Docket No. CP09-64-000, a prior notice request pursuant to sections 157.205 and 157.208 of the Federal Energy Regulatory Commission's regulations under the Natural Gas Act for authorization to increase the certificated Maximum Allowable Operating Pressure (MAOP) of a segment of a 10¾-inch diameter 10.3 mile segment of the Tucson-Phoenix Line (Line No. 1007), located in Pima County, Arizona, and to thereafter operate the pipeline segment at the higher pressure, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, EPNG proposes to increase the MAOP of the 10.3-mile segment of Line No. 1007 from the current MAOP of 350 psig to the requested 650 psig. EPNG states that the increase in MAOP of this segment of the line is to address in-line inspection tool problems experienced by EPNG. EPNG proposes to replace certain pipeline bends and chill rings that have jammed the in-line inspection tool during past inspections. EPNG also proposes to subsequently hydrostatically test the pipeline segment to allow for the higher MAOP. EPNG estimates the cost to uprate the MAOP including the pipe replacements and hydrostatic testing to be $3 million. EPNG asserts that the MAOP uprate project will not change the operational or capacity characteristics of the pipeline segment.

Any questions regarding the application should be directed to Richard Derryberry, Director, Regulatory Affairs Department, El Paso Natural Gas Company, Post Office Box 1087, Colorado Springs, Colorado 80944, or call (719) 520-3782.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E9-4164 Filed 2-26-09; 8:45 am]

BILLING CODE 6717-01-P